DEPARTMENT OF TRANSPORTATION

Federal Aviation Administration

14 CFR Part 39

[Docket No. 2002-NM-269-AD; Amendment 39-12995; AD 2002-26-07]

RIN 2120-AA64

Airworthiness Directives; Bombardier Model CL-600-2C10 (Regional Jet Series 700 & 701) Series Airplanes

AGENCY: Federal Aviation Administration, (DOT).

ACTION: Final rule; request for comments.

SUMMARY: This amendment adopts a new airworthiness directive (AD) that is applicable to certain Bombardier Model CL-600-2C10 (Regional Jet Series 700 & 701) series airplanes. This action requires revising the airplane flight manual (AFM) to advise the flightcrew to limit use of the auxiliary power unit (APU) to ground operation only, except for those in-flight emergencies described in the AFM when use of the APU is specified. This action also provides for optional terminating action for the requirements of this AD. This action is necessary to prevent fuel from being sprayed throughout the APU compartment and drawn out of the APU exhaust duct due to a cracked APU fuel nozzle, which could result in a fire or explosion in the APU compartment during flight. This action is intended to address the identified unsafe condition.

DATES: Effective January 17, 2003.

The incorporation by reference of certain publications listed in the regulations is approved by the Director of the Federal Register as of January 17, 2003.

Comments for inclusion in the Rules Docket must be received on or before February 3, 2003.

ADDRESSES: Submit comments in triplicate to the Federal Aviation Administration (FAA), Transport Airplane Directorate, ANM-114, Attention: Rules Docket No. 2002-NM-269-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-269-AD” in the subject line and need not be submitted in triplicate. Comments sent via the Internet as attached electronic files must be formatted in Microsoft Word 97 for Windows or ASCII text.

The service information referenced in this AD may be obtained from Bombardier, Inc., Canadair, Aerospace Group, PO Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: For questions regarding the AFM revision, contact James Delisio, Aerospace Engineer, Airframe and Propulsion Branch, ANE-171, FAA, New York Aircraft Certification Office, 10 Fifth Street, Third Floor, Valley Stream, New York 11581; telephone (516) 256-7521; fax (516) 568-2716. For questions regarding the APU replacement, contact Roger Pesuit, Aerospace Engineer, Propulsion Branch, ANM-140L, FAA, Los Angeles Aircraft Certification Office, 3960 Paramount Boulevard, Lakewood, California 90712-4137; telephone (562) 627-5251; fax (562) 627-5210.

SUPPLEMENTARY INFORMATION: Transport Canada Civil Aviation (TCCA), which is the airworthiness authority for Canada, recently notified the FAA that an unsafe condition may exist on certain Model CL-600-2C10 (Regional Jet Series 700 & 701) series airplanes. TCCA advises that fuel nozzles installed on the auxiliary power unit (APU) on these airplanes may crack and leak fuel into the APU compartment. According to the APU manufacturer, the cracks develop during APU start. Cracks are not readily detectable when the APU is installed in the airplane. An APU fuel nozzle can crack due to fatigue, and the resulting leak could cause fuel to spray throughout the APU compartment and be drawn out of the APU exhaust duct. This condition, if not corrected, could result in a fire or explosion in the APU compartment during flight.

Explanation of Relevant Service Information

Bombardier has issued Temporary Revision (TR) RJ 700/28-2, dated November 5, 2002, to the Canadair Regional Jet Series 700 Airplane Flight Manual. The TR advises the flightcrew to limit use of the APU to ground operation only, except for those in-flight emergencies described in the AFM when use of the APU is specified. TCCA has approved the TR for these airplanes in Canada. By approving the TR, TCCA also mandates its immediate incorporation into the AFM; therefore, TCCA did not issue a Canadian airworthiness directive to specifically mandate incorporation of the TR.

The FAA has reviewed Honeywell Alert Service Bulletin RE220-49-A7714, dated November 4, 2002, which describes procedures for replacing all APU fuel nozzles with new fuel nozzles (including installing new seals and washers; reidentifying the APU; and torqueing the bolts and fuel manifold connector within specified ranges). The service bulletin specifically cautions against intermixing fuel nozzle part numbers on an APU or interchanging the subject (“-2”) fuel nozzles on a modified APU.

U.S. Type Certification of the Airplane

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has reviewed all available information and determined that AD action is necessary for products of this type design that are certificated for operation in the United States. TCCA fully agrees with the requirements and compliance time specified in this AD.

Explanation of Requirements of Rule

Since an unsafe condition has been identified that is likely to exist or develop on other airplanes of the same type design registered in the United States, this AD is being issued to prevent fuel from being sprayed throughout the APU compartment and drawn out of the APU exhaust duct due to a cracked APU fuel nozzle, which could result in a fire or explosion in the APU compartment during flight. This AD requires revising the AFM to advise the flightcrew to limit use of the APU to ground operation only, except for those in-flight emergencies described in the AFM when use of the APU is specified.

This AD also provides for optional terminating action for the actions required by this AD. In accord with TCCA's findings, the FAA has determined that the operating limitations imposed by this AD can remain in place in lieu of accomplishment of a terminating action. In making this determination, the FAA considers that, in this case, implementing the AFM limitations will adequately ensure long-term continued operational safety before the unsafe condition could present a safety risk to the airplane.

Difference Between AD and Service Bulletin

Although the service bulletin recommends that operators send all removed fuel nozzles to Honeywell, this AD does not require operators to do so.

Interim Action

This is considered to be interim action. The FAA may consider requiring eventual replacement of the APU fuel nozzles, which would allow operators to remove the AFM limitation required by this AD. However, the planned compliance time for APU fuel nozzle replacement, if required, would be long enough to practicably provide notice and opportunity for public comment before the final rule is issued.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-269-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-26-07 Bombardier, Inc. (Formerly Canadair): Amendment 39-12995. Docket 2002-NM-269-AD.

Applicability: Model CL-600-2C10 (Regional Jet Series 700 & 701) series airplanes, certificated in any category, on which auxiliary power unit (APU) Model RE220(RJ), part number WE3800770-2, is installed.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent fuel from being sprayed throughout the APU compartment and drawn out of the APU exhaust duct due to a cracked APU fuel nozzle, which could result in a fire or explosion in the APU compartment during flight, accomplish the following:

Revision of Airplane Flight Manual (AFM)

(a) Within 1 day after the effective date of this AD, revise the “Limitations—Power Plant” section of the FAA-approved Canadair Regional Jet Series 700 (AFM) to include the information specified in Temporary Revision RJ 700/28-2, dated November 5, 2002, which advises the flightcrew to limit use of the APU to ground operation only, except for those in-flight emergencies described in the AFM when use of the APU is specified. This may be accomplished by inserting a copy of Temporary Revision RJ 700/28-2 into the AFM.

Optional Terminating Action

(b) Replacement of all APU fuel nozzles with new fuel nozzles (including installing new seals and washers; torqueing the bolts and fuel manifold connector within specified ranges; and then reidentifying the APU) in accordance with Honeywell Alert Service Bulletin RE220-49-A7714, dated November 4, 2002, terminates the requirements of paragraph (a) of this AD. After the replacement, the limitations required by paragraph (a) of this AD may be removed from the AFM.

Note 2: The “Limitations—Power Plant” procedures specified by paragraph (a) of this AD are required to be implemented only on affected airplanes, i.e., those with APU Model RE220(RJ), part number WE3800770-2, installed. However, individual pilots may operate other airplanes that do not have the subject APU installed, and that are not subject to those limitations and procedures. Therefore, to avoid any confusion or misunderstanding, it is important that airlines have communication mechanisms in place to ensure that pilots are aware, for each flight, whether the limitations apply.

Alternative Methods of Compliance

(c) An alternative method of compliance or adjustment of the compliance time that provides an acceptable level of safety may be used if approved by the Manager, New York Aircraft Certification Office (ACO), FAA. Operators must submit their requests through an appropriate FAA Principal Maintenance/Operations Inspector, who may add comments and then send it to the Manager, New York ACO.

Note 3: Information concerning the existence of approved alternative methods of compliance with this AD, if any, may be obtained from the New York ACO.

Special Flight Permits

(d) Special flight permits may be issued in accordance with sections 21.197 and 21.199 of the Federal Aviation Regulations (14 CFR 21.197 and 21.199) to operate the airplane to a location where the requirements of this AD can be accomplished.

Incorporation by Reference

(e) The required actions shall be done in accordance with Canadair Regional Jet Series 700 Airplane Flight Manual Temporary Revision RJ 700/28-2, dated November 5, 2002. The replacement, if accomplished, shall be done in accordance with Honeywell Alert Service Bulletin RE220-49-A7714, dated November 4, 2002. This incorporation by reference was approved by the Director of the Federal Register in accordance with 5 U.S.C. 552(a) and 1 CFR part 51. Copies may be obtained from Bombardier, Inc., Canadair, Aerospace Group, PO Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Effective Date

(f) This amendment becomes effective on January 17, 2003.

Issued in Renton, Washington, on December 23, 2002.
Vi L. Lipski,
Manager, Transport Airplane Directorate, Aircraft Certification Service.

[FR Doc. 02-32878 Filed 12-31-02; 8:45 am]

BILLING CODE 4910-13-U